DEPARTMENT OF LABOR

Employment and Training Administration

[TA-W-63,316]

Maxim Integrated Products, Sunnyvale, CA; Notice of Termination of Investigation

Pursuant to Section 221 of the Trade Act of 1974, as amended, an investigation was initiated on May 6, 2008 in response to a petition filed by a company official on behalf of workers at Maxim Integrated Products, Sunnyvale, California. The workers at the subject facility produce semi-conductor chips.

The petitioner has requested that the petition be withdrawn. Consequently, the investigation has been terminated.

Signed in Washington, DC, this 8th day of May 2008.
Richard Church,
Certifying Officer, Division of Trade Adjustment Assistance.

[FR Doc. E8-10882 Filed 5-14-08; 8:45 am]

BILLING CODE 4510-FN-P